DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been determined to be subject to specific prohibitions based on OFAC's determination that one or more applicable legal criteria were satisfied.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action[s]

On April 15, 2021, OFAC determined that the following persons shall be subject to the prohibitions of Directive 1 under the relevant sanctions authority listed below as of June 14, 2021.

Entities

1. CENTRAL BANK OF THE RUSSIAN FEDERATION.

Pursuant to sections 1(a)(iv), 1(d), and 8 of Executive Order 14024 of April 15, 2021, “Blocking Property with Respect to Specified Harmful Foreign Activities of the Government of the Russian Federation,” 86 FR 20249, (“E.O. 14024”) the entity is determined to be a political subdivision, agency, or instrumentality of the Government of the Russian Federation and shall be subject to the prohibitions of Directive 1 under E.O. 14024.

2. MINISTRY OF FINANCE OF THE RUSSIAN FEDERATION.

Pursuant to sections 1(a)(iv), 1(d), and 8 of E.O. 14024, the entity is determined to be a political subdivision, agency, or instrumentality of the Government of the Russian Federation and shall be subject to the prohibitions of Directive 1 under E.O. 14024.

3. NATIONAL WEALTH FUND OF THE RUSSIAN FEDERATION.

Pursuant to sections 1(a)(iv), 1(d), and 8 of E.O. 14024, the entity is determined to be a political subdivision, agency, or instrumentality of the Government of the Russian Federation and shall be subject to the prohibitions of Directive 1 under E.O. 14024.

Dated: April 15, 2021.
Bradley T. Smith,
Acting Director, Office of Foreign Assets Control, U.S. Department of the Treasury.

[FR Doc. 2021-09647 Filed 5-6-21; 8:45 am]

BILLING CODE 4810-AL-P